DEPARTMENT OF JUSTICE

United States Parole Commission

Public Announcement; Pursuant to the Government in the Sunshine Act (Public Law 94-409) [5 U.S.C. 552b]

Date and Time: 12 p.m., Thursday, January 17, 2008.

Place: U.S. Parole Commission, 5550 Friendship Boulevard, 4th Floor, Chevy Chase, Maryland 20815.

Status: Closed.

Matters To Be Considered: The following matter will be considered during the closed portion of the Commission's Business Meeting:

Petition for reconsideration involving one original jurisdiction case pursuant to 28 CFR 2.27.

Agency Contact: Thomas W. Hutchison, Chief of Staff, United States Parole Commission, (301) 492-5990.

Dated: January 10, 2008.
Rockne J. Chickinell,
General Counsel, U.S. Parole Commission.

[FR Doc. 08-129 Filed 1-11-08; 3:20 pm]

BILLING CODE 4410-31-M